DEPARTMENT OF TRANSPORTATION

Federal Aviation Administration

Fifth Meeting, Special Committee 213/EUROCAE: Enhanced Flight Vision Systems/Synthetic Vision Systems (EFVS/SVS), EUROCAE Working Group 79 (WG-79)

AGENCY: Federal Aviation Administration (FAA), DOT.

ACTION: Notice of RTCA Special Committee 213/EUROCAE, Enhanced Flight Vision Systems/Synthetic Vision Systems (EFVS/SVS), EUROCAE Working Group 79 (WG-79).

SUMMARY: The FAA is issuing this notice to advise the public of a meeting of RTCA Special Committee 213, Standards for Air Traffic Data Communication Services.

DATES: The meeting will be held July 14-16, 2009 from 9 a.m.-5 p.m. Sign-in will begin at 8:30 a.m., July 14, 2009.

ADDRESSES: The meeting will be held at MITRE Center for Advanced Aviation System Development (CAASD), 7515 Colshire Drive, McLean, Virginia, USA 22102-7508, POC Tel: David A. Domino, 703-983-3695, http://www.mitrecaasd.org.

SUPPLEMENTARY INFORMATION: Pursuant to section 10(a)(2) of the Federal Advisory Committee Act (Pub. L. 92-463, 5 U.S.C., Appendix 2), notice is hereby given for a Special Committee 213 meeting. The agenda will include:

July 14

• Opening Plenary (Welcome, Introductions, Review agenda and objectives).

• Plenary briefings.

• Plenary work group updates, action item review, LED lighting.

• Separate work group 1 and work group 2 discussions.

July 15

• Separate work group 1 and 2 discussions.

• Plenary discussion.

July 16

• Separate work group 1 and 2 discussions.

• Summarize work group discussions.

• Review action items.

• Closing Plenary (Administrative).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 3, 2009.
Francisco Estrada C.,
RTCA Advisory Committee.

[FR Doc. E9-13876 Filed 6-11-09; 8:45 am]

BILLING CODE 4910-13-P